DEPARTMENT OF ENERGY

10 CFR Part 430

[Docket Number EERE-2008-BT-TP-0020]

RIN 1904-AB89

Energy Conservation Program for Consumer Products: Decision and Order Granting 180-Day Extension of Compliance Date for Residential Furnaces and Boilers Test Procedure Amendments; Correction

AGENCY: Office of Energy Efficiency and Renewable Energy, Department of Energy.

ACTION: Decision and order; correction

SUMMARY: On March 31, 2011, the U.S. Department of Energy (DOE) published a Decision and Order in the Federal Register which granted 27 companies submitting petitions before the required date (i.e., by February 17, 2011), a 180-day extension of the compliance date for recent amendments to the DOE test procedure for residential furnaces and boilers related to the standby mode and off mode energy consumption of these products. Recently, DOE received a petition dated February 17, 2011 from a 28th manufacturer, Viessmann Manufacturing Company, Inc., in which the manufacturer also requested the above-referenced 180-day extension. Although DOE received this petition well after February 17, 2011, the Department believes a number of factors, including international postal handling and Federal mail security screening, contributed to the delay in receipt of this petition. After review, DOE has decided to grant the petition. However, DOE was not able to include its determination regarding this petition in its March 31, 2011 Decision and Order, because publication was already underway. Through this correction notice, DOE is modifying its Decision and Order to add Viessmann Manufacturing Company, Inc., to the list of companies to whom the extension of the compliance date has been granted.

DATES: This correction to the above-referenced Decision and Order is effective April 11, 2011. For representation purposes, petitioners must comply with all applicable provisions of the amended DOE test procedure for residential furnaces and boilers starting on October 15, 2011.

FOR FURTHER INFORMATION CONTACT: Dr. Michael G. Raymond, U.S. Department of Energy, Building Technologies Program, Mail Stop EE-2J, 1000 Independence Avenue, SW., Washington, DC 20585-0121. Telephone: (202) 586-9611. E-mail: Michael.Raymond@ee.doe.gov.

Mr. Eric Stas, U.S. Department of Energy, Office of the General Counsel, GC-71, 1000 Independence Avenue, SW., Washington, DC 20585-0121. Telephone: (202) 586-9507. E-mail: Eric.Stas@hq.doe.gov.

For information on how to access the docket or to view hard copies of the docket in the Resource Room, contact Ms. Brenda Edwards, U.S. Department of Energy, Office of Energy Efficiency and Renewable Energy, Building Technologies Program, EE-2J, 1000 Independence Avenue, SW., Washington, DC 20585-0121. Telephone: (202) 586-2945. E-mail: Brenda.Edwards@ee.doe.gov.

SUPPLEMENTARY INFORMATION:

I. Background

On March 31, 2011, DOE published a notice in the Federal Register (76 FR 17755) which announced receipt of petitions requesting a 180-day extension of the April 18, 2011 compliance date for representations associated with amendments to the DOE test procedure for residential furnaces and boilers in the October 20, 2010 final rule (75 FR 64621) from the following 27 companies: (1) Adams Manufacturing Company; (2) Allied Air Enterprises; (3) Bard Manufacturing Co. Inc.; (4) Boyertown Furnace; (5) Carrier Corporation; (6) Crown Boiler; (7) De Dietrich Boilers; (8) ECR International Inc.; (9) Goodman Manufacturing Company; (10) HTP Inc.; (11) Johnson Controls Inc.; (12) Laars Heating Systems Company; (13) Lennox International Inc.; (14) Lochinvar; (15) Newmac Furnace Company; (16) New Yorker Residential Heating Boilers; (17) Nordyne; (18) NY Thermal Inc.; (19) Peerless Boilers Heat LLC; (20) Raypak Inc.; (21) Rheem Manufacturing Company; (22) Slant/Fin; (23) Thermo Products LLC; (24) Trane; (25) Triangle Tube; (26) US Boiler Company; and (27) Weil-McLain.

In the same March 31, 2011 Federal Register notice, DOE published a Decision and Order which granted to the above 27 petitioners the requested 180-day extension of the compliance date for recent amendments to the DOE test procedure for residential furnaces and boilers related to the standby mode and off mode energy consumption of these products.

Recently, DOE received a petition dated February 17, 2011 from a 28th manufacturer, Viessmann Manufacturing Company, Inc., in which the manufacturer also requested the above-referenced 180-day extension. Viessmann Manufacturing Company's petition recited many of the same arguments as the earlier petitioners regarding the undue hardship which the petitioner would face if the requested extension of the compliance date were not granted. DOE has determined that the petitioner has made its case and that the extension should be granted for the reasons stated in the March 31, 2011 Decision and Order.

II. Conclusion

Although DOE received this petition well after February 17, 2011, the Department believes a number of factors, including international postal handling and Federal mail security screening, contributed to this delay in receipt of the petition from this 28th manufacturer. After review, DOE has decided to grant the petition. Through this correction notice, DOE is modifying its Decision and Order to add Viessmann Manufacturing Company, Inc., to the list of companies to whom the extension of the compliance date has been granted.

Issued in Washington, DC, on April 5, 2011.
Kathleen Hogan,
Deputy Assistant Secretary for Energy Efficiency, Office of Technology Development, Energy Efficiency and Renewable Energy.

[FR Doc. 2011-8572 Filed 4-8-11; 8:45 am]

BILLING CODE 6450-01-P